DEPARTMENT OF THE INTERIOR

Fish and Wildlife Service

Proposed Information Collection; OMB Control Number 1018-0132; Research to Support Analysis and Management Carrying Capacity at Lake Umbagog National Wildlife Refuge, Phase 2

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC, which is scheduled to expire on May 31, 2007. We may not conduct or sponsor and a person is not required to respond to a collection of information unless it displays a currently valid OMB control number.

DATES: You must submit comments on or before April 23, 2007.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this IC, contact Hope Grey by mail, fax, or e-mail (see ADDRESSES) or by telephone at (703) 358-2482.

SUPPLEMENTARY INFORMATION:

I. Abstract

Lake Umbagog National Wildlife Refuge contains significant natural and recreational resources. We estimate that the area has over 50,000 visits per year, which can result in significant resource and social impacts.

In 2006, we began a research study to gather information to help support application of visitor carrying capacity at the refuge. We conducted a survey of visitors to the refuge to determine relevant indicators of quality for the visitor experience. Indicators of quality are measurable, manageable variables that reflect the essence or meaning of management objectives. OMB approved this collection of information and assigned control number 1018-0132, which expires May 31, 2007.

We plan to ask OMB to renew this information collection to include phase 2 of this study. During phase 2, we propose to survey visitors and nearby landowners to identify standards of quality for relevant indicator variables and determine attitudes toward management actions that we might use to ensure that the standards of quality are maintained. We will conduct two separate surveys. One survey will include a sample of visitors to Lake Umbagog National Wildlife Refuge and the second survey will include private landowners adjacent to the refuge. We will collect the same information in both surveys; however, we will ask adjacent landowners for additional information about their frequency of use of the refuge.

II. Data

OMB Control Number: 1018-0132.

Title: Research to Support Analysis and Management Carrying Capacity at Lake Umbagog National Wildlife Refuge, Phase 2.

Service Form Number(s): 3-2330 and 3-2330a.

Type of Request: Revision of currently approved collection.

Affected Public: Visitors to and landowners near Lake Umbagog National Wildlife Refuge.

Respondent's Obligation: Voluntary.

Frequency of Collection: One time per respondent.

Estimated Annual Number of Respondents: 500.

Estimated Total Annual Responses: 500.

Estimated Time per Response: 15 minutes.

Estimated Total Annual Burden Hours: 125.

III. Request for Comments

We invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments submitted in response to this notice are a matter of public record. We will include and/or summarize each comment in our request to OMB to approve this information collection.

Dated: January 22, 2007
Hope Grey,
Information Collection Clearance Officer, Fish and Wildlife Service.

[FR Doc. E7-2960 Filed 2-21-07; 8:45 pm]

Billing Code 4310-55-S